DEPARTMENT OF AGRICULTURE

Foreign Agricultural Service

Adjustment of Appendices Under the Dairy Tariff-Rate Quota Import Licensing Regulation for the 2017 Tariff-Rate Quota Year

AGENCY: Foreign Agricultural Service, USDA.

ACTION: Notice.

SUMMARY: This notice announces the revised appendices under the Dairy Tariff-Rate Import Quota Licensing Regulation for the 2017 quota year reflecting the cumulative annual transfers from Appendix 1 to Appendix 2 for certain dairy product import licenses permanently surrendered by licensees or revoked by the Licensing Authority.

DATES: September 13, 2017.

FOR FURTHER INFORMATION CONTACT: Abdelsalam El-Farra, Dairy Import Licensing Program, Import Policies and Export Reporting Division, U.S. Department of Agriculture, at (202) 720-9439; or by email at: abdelsalam.el-farra@fas.usda.gov.

SUPPLEMENTARY INFORMATION: The Foreign Agricultural Service, under a delegation of authority from the Secretary of Agriculture, administers the Dairy Tariff-Rate Quota Import Licensing Regulation codified at 7 CFR 6.20-6.36 that provides for the issuance of licenses to import certain dairy articles under tariff-rate quotas (TRQs) as set forth in the Harmonized Tariff Schedule of the United States. These dairy articles may only be entered into the United States at the low-tier tariff by or for the account of a person or firm to whom such licenses have been issued and only in accordance with the terms and conditions of the regulation.

Licenses are issued on a calendar year basis, and each license authorizes the license holder to import a specified quantity and type of dairy article from a specified country of origin. The Import Policies and Export Reporting Division, Foreign Agricultural Service, U.S. Department of Agriculture, issues these licenses and, in conjunction with U.S. Customs and Border Protection, U.S. Department of Homeland Security, monitors their use.

The regulation at 7 CFR 6.34(a) states: “Whenever a historical license (Appendix 1) is not issued to an applicant pursuant to the provisions of § 6.23, is permanently surrendered or is revoked by the Licensing Authority, the amount of such license will be transferred to Appendix 2.” Section 6.34(b) provides that the cumulative annual transfers will be published by notice in the Federal Register each year. Accordingly, this document sets forth the revised Appendices for the 2017 tariff-rate quota year below.

Issued at Washington, DC on July 21, 2017.
Ronald Lord,
Licensing Authority.

Articles Subject to: Appendix 1, Historical Licenses; Appendix 2 Non-Historical Licenses; and Appendix 3, Designated Importers Licenses for Quota Year 2017
[Quantities in Kilograms]
Non-cheese articles | Appendix 1 | Appendix 2 | Sum of Appendix 1&2 | Appendix 3 Tokyo R. | Appendix 4 Uruguay R. | Grand total
BUTTER (NOTE 6) | 4,436,693 | 2,540,307 | 6,977,000 |  |  | 6,977,000
EU-27 | 63,058 | 33,103 | 96,161 |  |  |
New Zealand | 76,503 | 74,090 | 150,593 |  |  |
Other Countries | 37,155 | 36,780 | 73,935 |  |  |
Any Country | 4,259,977 | 2,396,334 | 6,656,311 |  |  |
DRIED SKIM MILK (NOTE 7) |  | 5,261,000 | 5,261,000 |  |  | 5,261,000
Australia | 0 | 600,076 | 600,076 |  |  |
Canada | 0 | 219,565 | 219,565 |  |  |
Any Country | 0 | 4,441,359 | 4,441,359 |  |  |
DRIED WHOLE MILK (NOTE 8) | 0 | 3,321,300 | 3,321,300 |  |  | 3,321,300
New Zealand | 0 | 3,175 | 3,175 |  |  |
Any Country | 0 | 3,318,125 | 3,318,125 |  |  |
DRIED BUTTERMILK/WHEY (NOTE 12) | 0 | 224,981 | 224,981 |  |  | 224,981
Canada | 0 | 161,161 | 161,161 |  |  |
New Zealand | 0 | 63,820 | 63,820 |  |  |
BUTTER SUBSTITUTES CONTAINING OVER 45 PERCENT OF BUTTERFAT AND/OR BUTTER OIL (NOTE 14) | 0 | 6,080,500 | 6,080,500 |  |  | 6,080,500
Any Country | 0 | 6,080,500 | 6,080,500 |  |  |
TOTAL: NON-CHEESE ARTICLES | 4,436,693 | 17,428,088 | 21,864,781 |  |  | 21,864,781
CHEESE ARTICLES
CHEESE AND SUBSTITUTES FOR CHEESE (NOTE 16) | 17,866,451 | 13,603,280 | 31,469,731 | 9,661,128 | 7,496,000 | 48,626,859
Argentina | 0 | 7,690 | 7,690 | 92,310 |  | 100,000
Australia | 535,628 | 5,542 | 541,170 | 758,830 | 1,750,000 | 3,050,000
Canada | 968,331 | 172,669 | 1,141,000 |  |  | 1,141,000
Costa Rica | 0 | 0 | 0 |  | 1,550,000 | 1,550,000
EU-27 | 14,082,918 | 9,184,738 | 23,267,656 | 1,132,568 | 3,446,000 | 27,846,224
Of which Portugal is: | 65,838 | 63,471 | 129,309 | 223,691 |  | 353,000
Israel | 79,696 | 0 | 79,696 | 593,304 |  | 673,000
Iceland | 29,054 | 264,946 | 294,000 | 29,000 |  | 323,000
New Zealand | 1,369,036 | 3,446,436 | 4,815,472 | 6,506,528 |  | 11,322,000
Norway | 122,860 | 27,140 | 150,000 |  |  | 150,000
Switzerland | 512,184 | 159,228 | 671,412 | 548,588 | 500,000 | 1,720,000
Uruguay | 0 | 0 | 0 |  | 250,000 | 250,000
Other Countries | 100,906 | 100,729 | 201,635 |  |  | 201,635
Any Country | 0 | 300,000 | 300,000 |  |  | 300,000
BLUE-MOLD CHEESE (NOTE 17) | 1,935,426 | 545,575 | 2,481,001 |  | 430,000 | 2,911,001
Argentina | 2,000 | 0 | 2,000 |  |  | 2,000
EU-27 | 1,933,426 | 545,574 | 2,479,000 |  | 350,000 | 2,829,000
Chile | 0 | 0 | 0 |  | 80,000 | 80,000
Other Countries | 0 | 1 | 1 |  |  | 1
CHEDDAR CHEESE (NOTE 18) | 2,310,333 | 1,973,523 | 4,283,856 | 519,033 | 7,620,000 | 12,422,889
Australia | 891,246 | 93,253 | 984,499 | 215,501 | 1,250,000 | 2,450,000
Chile | 0 | 0 | 0 |  | 220,000 | 220,000
EU-27 | 52,404 | 210,596 | 263,000 |  | 1,050,000 | 1,313,000
New Zealand | 1,265,070 | 1,531,398 | 2,796,468 | 303,532 | 5,100,000 | 8,200,000
Other Countries | 101,613 | 38,276 | 139,889 |  |  | 139,889
Any Country | 0 | 100,000 | 100,000 |  |  | 100,000
AMERICAN-TYPE CHEESE (NOTE 19) | 1,214,314 | 1,951,239 | 3,165,553 | 357,003 | 0 | 3,522,556
Australia | 761,890 | 119,108 | 880,998 | 119,002 |  | 1,000,000
EU-27 | 136,075 | 217,925 | 354,000 |  |  | 354,000
New Zealand | 208,610 | 1,553,389 | 1,761,999 | 238,001 |  | 2,000,000
Other Countries | 107,739 | 60,817 | 168,556 |  |  | 168,556
EDAM AND GOUDA CHEESE (NOTE 20) | 4,313,885 | 1,292,517 | 5,606,402 | 0 | 1,210,000 | 6,816,402
Argentina | 105,418 | 19,582 | 125,000 |  | 110,000 | 235,000
EU-27 | 4,092,659 | 1,196,341 | 5,289,000 |  | 1,100,000 | 6,389,000
Norway | 111,046 | 55,954 | 167,000 |  |  | 167,000
Other Countries | 4,762 | 20,640 | 25,402 |  |  | 25,402
ITALIAN-TYPE CHEESES (NOTE 21) | 6,107,184 | 1,413,363 | 7,520,547 | 795,517 | 5,165,000 | 13,481,064
Argentina | 3692345 | 433,138 | 4,125,483 | 367,517 | 1,890,000 | 6,383,000
EU-27 | 2,414,839 | 967,161 | 3,382,000 |  | 2,025,000 | 5,407,000
Romania | 0 | 0 | 0 |  | 500,000 | 500,000
Uruguay | 0 | 0 | 0 | 428,000 | 750,000 | 1,178,000
Other Countries | 0 | 13,064 | 13,064 |  |  | 13,064
SWISS OR EMMENTHALER CHEESE (NOTE 22) | 4,442,574 | 2,208,740 | 6,651,314 | 823,519 | 380,000 | 7,854,833
EU-27 | 3,188,290 | 1,963,704 | 5,151,994 | 393,006 | 380,000 | 5,925,000
Switzerland | 1,220,786 | 198,701 | 1,419,487 | 430,513 |  | 1,850,000
Other Countries | 33,498 | 46,335 | 79,833 |  |  | 79,833
CHEESE AND SUBSTITUTES FOR CHEESE (NOTE 23) | 1,183,816 | 3,241,092 | 4,424,908 | 1,050,000 | 0 | 5,474,908
EU-27 | 1,183,816 | 3,241,091 | 4,424,907 |  |  | 4,424,907
Israel | 0 | 0 | 0 | 50,000 |  | 50,000
New Zealand | 0 | 0 | 0 | 1,000,000 |  | 1,000,000
Other Countries | 0 | 1 | 1 |  |  | 1
SWISS OR EMMENTHALER CHEESE WITH EYE FORMATION (NOTE 25) | 13,241,278 | 9,056,053 | 22,297,331 | 9,557,945 | 2,620,000 | 34,475,276
Argentina | 0 | 9,115 | 9,115 | 70,885 |  | 80,000
Australia | 209,698 | 0 | 209,698 | 290,302 |  | 500,000
Canada | 0 | 0 | 0 | 70,000 |  | 70,000
EU-27 | 9,911,629 | 6,565,199 | 16,476,828 | 4,003,172 | 2,420,000 | 22,900,000
Iceland | 0 | 149,999 | 149,999 | 150,001 |  | 300,000
Israel | 27,000 | 0 | 27,000 |  |  | 27,000
Norway | 2,285,329 | 1,369,981 | 3,655,310 | 3,227,690 |  | 6,883,000
Switzerland | 759,369 | 924,736 | 1,684,105 | 1,745,895 | 200,000 | 3,630,000
Other Countries | 48,253 | 37,023 | 85,276 |  |  | 85,276
TOTAL: CHEESE ARTICLES | 52,615,261 | 35,285,382 | 87,900,643 | 22,764,145 | 24,921,000 | 135,585,788
TOTAL: CHEESE & NON-CHEESE | 57,051,954 | 52,713,470 | 109,765,424 | 22,764,145 | 24,921,000 | 157,450,569

[FR Doc. 2017-19351 Filed 9-12-17; 8:45 am]

BILLING CODE 3410-10-P